GENERAL SERVICES ADMINISTRATION

[Notice-MG-2020-05; Docket No. 2020-0002; Sequence No. 32]

Office of Federal High-Performance Buildings; Green Building Advisory Committee; Request for Membership Nominations

AGENCY: Office of Government-wide Policy, General Services Administration (GSA).

ACTION: Notice of request for membership nominations.

SUMMARY: The Green Building Advisory Committee provides advice to GSA as a mandatory federal advisory committee, as specified in the Energy Independence and Security Act of 2007 (EISA) and in accordance with the provisions of the Federal Advisory Committee Act (FACA). This notice invites qualified candidates to apply for appointment to a voluntary position on the Committee. This is a competitive process for a limited number of positions.

DATES: Applicable: September 9, 2020.

FOR FURTHER INFORMATION CONTACT: Mr. Ken Sandler, Office of Federal High-Performance Buildings, GSA, ken.sandler@gsa.gov or 202-219-1121.

SUPPLEMENTARY INFORMATION:

Background

The Administrator of the GSA established the Green Building Advisory Committee (hereafter, “the Committee”) on June 20, 2011 (76 FR 118) pursuant to Section 494 of the Energy Independence and Security Act of 2007 (42 U.S.C. 17123, or EISA), in accordance with the provisions of the Federal Advisory Committee Act (FACA), as amended (5 U.S.C. App. 2). Under this authority, the Committee advises GSA on how the Office of Federal High-Performance Buildings can most effectively accomplish its mission. Information about this Office is available online at http://www.gsa.gov/hpb, while information about the Committee may be found at http://www.gsa.gov/gbac.

The EISA statute authorizes the Committee and identifies categories of members to be included. Per EISA § 494(b)(1)(B), these are to include at least one representative of each of the following categories:

“(i) State and local governmental green building programs;

(ii) Independent green building associations or councils;

(iii) Building experts, including architects, material suppliers, and construction contractors;

(iv) Security advisors focusing on national security needs, natural disasters, and other dire emergency situations;

(v) Public transportation industry experts; and

(vi) Environmental health experts, including those with experience in children's health.”

EISA further specifies: “The total number of non-federal members on the Committee at any time shall not exceed 15.”

Member responsibilities: Approved Committee members will be appointed to terms of either 2 or 4 years with the possibility of membership renewals as appropriate. Membership is limited to the specific individuals appointed and is non-transferrable. Members are expected to personally attend all meetings, review all Committee materials, and actively provide their advice and input on topics covered by the Committee. Committee members will not receive compensation or travel reimbursements from the Government except where need has been demonstrated and funds are available.

Request for membership nominations: This notice provides an opportunity for individuals to present their qualifications and apply for an open seat on the Committee. GSA will review and consider all applications and determine which candidates are likely to add the most value to the Committee based on the criteria outlined in this notice.

No person who is a federally-registered lobbyist may serve on the Committee, in accordance with the Presidential Memorandum “Lobbyists on Agency Boards and Commissions” (June 18, 2010).

Nomination process for Advisory Committee appointment: Individuals may nominate themselves or others. Requirements include:

• At least 5 years of high-performance building experience, which may include a combination of project-based, research and policy experience.

• Academic degrees, certifications and/or training demonstrating high-performance building and related sustainability and real estate expertise.

• Knowledge of federal sustainability and energy laws and programs.

• Proven ability to work effectively in a collaborative, multi-disciplinary environment and add value to the work of a committee.

• Qualifications appropriate to specific statutory categories listed above.

A nomination package shall include the following information for each nominee: (1) A letter of nomination stating the name and organizational affiliation(s) of the nominee, nominee's field(s) of expertise, specific qualifications to serve on the Committee, and description of interest and qualifications; (2) A professional resume or CV; and (3) Complete contact information including name, return address, email address, and daytime telephone number of the nominee and nominator.

GSA reserves the right to choose Committee members based on qualifications, experience, Committee balance, statutory requirements and all other factors deemed critical to the success of the Committee. Candidates may be asked to provide detailed financial information to permit evaluation of potential conflicts of interest that could impede their work on the Committee, in accordance with the requirements of FACA. All nominations must be submitted in sufficient time to be received by 5:00 p.m., Eastern Time (ET), on Friday, September 25, 2020, and be addressed to ken.sandler@gsa.gov.

Kevin Kampschroer,
Federal Director, Office of Federal High-Performance Buildings, Office of Government-Wide Policy.

[FR Doc. 2020-19897 Filed 9-8-20; 8:45 am]

BILLING CODE 6820-14-P